DEPARTMENT OF LABOR

Employment and Training Administration Submission for OMB Emergency Review: Comment Request

March 24, 2009.

The Department of Labor has submitted the following information collection request (ICR), utilizing emergency review procedures, to the Office of Management and Budget (OMB) for review and clearance in accordance with the Paperwork Reduction Act of 1995 (Pub. L. 104-13, 44 U.S.C. Chapter 35) and 5 CFR 1320.13. OMB approval has been requested by March 30, 2009. A copy of this ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: DOL_PRA_PUBLIC@dol.gov. Interested parties are encouraged to send comments to the Office of Information and Regulatory Affairs, Attn: OMB Desk Officer for the Department of Labor-ETA, Office of Management and Budget, Room 10235, Washington, DC 20503, Telephone: 202-395-7316/ Fax: 202-395-6974 (these are not toll-free numbers), e-mail: OIRA_submission@omb.eop.gov. Comments and questions about the ICR listed below should be received by March 30, 2009.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

Agency: Employment and Training Administration.

Title of Collection: State/Local Consultations on Readiness for Implementing the American Recovery and Reinvestment Act of 2009 (ARRA).

OMB Control Number: Pending.

Frequency of Collection: One time collection.

Affected Public: State Workforce Agencies and Local Areas designated under the Workforce Investment Act.

Estimated Time per Respondent: 45 minutes.

Total Estimated Number of Respondents: 78.

Total Estimated Annual Burden Hours: 59 hours.

Total Estimated Annual Costs Burden: $0.

Description: The American Recovery and Reinvestment Act of 2009 (ARRA) outlines the public workforce system's important role in helping workers prepare for and find employment, and providing work experience for youth. The Act contains many provisions for ensuring a successful implementation of effective workforce interventions. To ensure success, Federal, State and local workforce systems must be guided by four overriding principles: (1) Transparency and accountability in the use of funds; (2) timely spending of the funds and implementation of quality activities; (3) expanded workforce system capacity and service levels; and, (4) increased training leading to increased employment opportunities. The first step in the process is to accurately assess workforce system readiness across key administrative and program areas and to identify Technical Assistance (TA) needs. To do this, ETA Regional Offices will conduct an assessment of states and many local areas, compile those assessment responses, and provide recommendations on technical assistance actions ETA should take to support state and local implementation of the ARRA.

Why Are We Requesting Emergency Processing?

If DOL were to comply with standard PRA clearance procedures, it would not be able to properly comply with the ARRA-mandated requirement to assess and mitigate risk associated with the allocation of ARRA funds. The Department will take all necessary steps in consulting with state workforce agencies to minimize the burden of collecting the readiness information.

Darrin A. King,
Departmental Clearance Officer.

[FR Doc. E9-6968 Filed 3-27-09; 8:45 am]

BILLING CODE 4510-FN-P